DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate—rescheduled public meeting.

SUMMARY: The NOAA Office of Ocean and Coastal Resource Management (OCRM) announces a revised time for a public meeting previously included in an announcement of intent to evaluate the performance of the New Hampshire Coastal Management Program. Notice was previously given in the Federal Register on June 29, 2006, of the date of the site visit for the evaluation of the New Hampshire Coastal Management Program and the date, local time, and location of the public meeting. Notice is hereby given of the revised local time of the public meeting during the site visit.

Date and Time: The New Hampshire Coastal Management Program evaluation site visit will be held September 20-22, 2006. One public meeting will be held during the week. The public meeting will be held on Wednesday, September 20, 2006, at 6 p.m. at the New Hampshire Coastal Program Office, Department of Environmental Services, 50 International Drive, Suite 200, Portsmouth, New Hampshire.

FOR FURTHER INFORMATION CONTACT: Ralph Cantral, Chief, National Policy and Evaluation Division, Office of Ocean and Coastal Resource Management, NOS/NOAA, 1305 East-West Highway, 10th Floor, Silver Spring, Maryland 20910, (301) 563-7118.

Dated: July 19, 2006.
David M. Kennedy,
Director, Office of Ocean and Coastal Resource Management, National Ocean Service, National Oceanic and Atmospheric Administration.

[FR Doc. E6-11844 Filed 7-24-06; 8:45 am]

BILLING CODE 3510-08-P